FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

TC & RE Enterprises, Inc. dba Joinus Worldwide Freight, 500 Carson Plaza Dr., #221, Carson, CA 90746 Officer: Christina Han, President (Qualifying Individual).

J & B International, Inc., 2250 Landmeier Road, Suite E, Elk Grove Village, IL 60007, Officer: Denny Kim, President (Qualifying Individual).

Superior Logistic, Inc., 131 S. Brent Circle, Walnut, CA 91789, Officers: Hung Che (Henry) Lien, President (Qualifying Individual), Zou Ying Lee, Secretary.

Epic International Transport, LLC, 6048 Lido Lane, Long Beach, CA 90803, Officer: Charles Alphonsus Brennan, Manager (Qualifying Individual).

All World Services Inc. dba Quick International Service Inc., 8348 NW 30th Terrace, Miami, FL 33122, Officers: Javier Perez, President (Qualifying Individual), Carmen C. Perez, Vice President.

Non-Vessel Operating Common Carrier and Ocean Freight Forwarder Transportation Intermediary Applicant

Capitol Transportation & CHB Corp., 8925 NW 27th Street, Miami, FL 33172, Officers: Manuel G. Viegas, President (Qualifying Individual), Irene Rivero, Vice President.

Ocean Freight Forwarder—Ocean Transportation Intermediary Applicant

Argosy Shipping (USA), LP, 6575 West Loop South, Suite 110, Bellaire, TX 77401, Officers: C. Rider Griswold, President (Qualifying Individual), Madelaine Griswold, Vice President.

Bryant L. VanBrakle,
Secretary.

[FR Doc. 03-27313 Filed 10-29-03; 8:45 am]

BILLING CODE 6730-01-P